ENVIRONMENTAL PROTECTION AGENCY

[FRL-7033-9]

Notice of Proposed Administrative Settlement Pursuant to the Comprehensive Environmental Response, Compensation, and Liability Act

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement concerning the RSR Corporation Superfund Site, with nineteen parties (“Settling Parties”), the United States Environmental Protection Agency (“EPA”), and the State of Texas (“State”).

The Settling Parties are: Andersen's Sales and Salvage, Inc.; Battery Associates, Incorporated; Ben Shemper and Sons, Incorporated; D C Power Supply; Dallas Power and Light Company; Gardner Iron & Metal Company, Inc.; Livingston Pecan & Metal, Inc.; Mansbach Metal Company; Michelson Steel and Supply; Mid-Ohio Battery; Minemet, Incorporated; Morris Tick Company, Inc.; Raleigh Junk Company; Remington Arms; Sabel Industries, Incorporated; Southern Scrap and Metal Company, Inc.; Sturgis Iron & Metal Co., Inc.; Twin City Iron and Metal Company, Inc.; and United Auto Disposal/United Metal Recyclers.

The settlement requires the Settling Parties to pay a total of $74,866.21 to the EPA and $9,100.00 to the State in reimbursement of Response Costs. Each Respondent's payment includes an amount for past response costs incurred at or in connection with the Site; projected future response costs to be incurred at or in connection with the Site; and a premium to cover the risks and uncertainties associated with this settlement.

The settlement includes a covenant not to sue under section 107 of CERCLA, 42 U.S.C. 9607. The settlement is for a minor portion of response costs, and the parties are considered to be “de minimis” contributors in accordance with section 122(g) of CERCLA, 42 U.S.C. 9622.

For thirty (30) days following the date of publication of this notice, the Agency will receive written comments relating to the settlement. The Agency will consider all comments received and may withdraw or withhold its consent to the proposed settlement if comments received disclose facts or considerations which indicate that the settlement is inappropriate, improper, or inadequate. The Agency's response to any comments received will be available for public inspection at 1445 Ross Avenue, Dallas, Texas, 75202-2733.

DATES: Comments must be submitted on or before September 17, 2001.

ADDRESSES: The proposed settlement and additional background information relating to the settlement are available for public inspection at 1445 Ross Avenue, Dallas, Texas, 75202-2733. A copy of the proposed settlement may be requested from Barbara J. Aldridge (6SF-AC), U.S. Environmental Protection Agency, Region 6, 1445 Ross Avenue, Dallas, Texas, 75202-2733 at (214) 665-2712. Comments should reference the RSR Corporation Superfund Site, Dallas, Texas, and EPA Docket Number 6-05-01, and should be addressed to Joseph E. Compton III at the address listed below.

FOR FURTHER INFORMATION CONTACT: Joseph E. Compton III (6RC-S), U.S. Environmental Protection Agency, 1445 Ross Avenue, Dallas, Texas, 75202-2733 at (214) 665-8506.

Dated: August 2, 2001.
Lynda F. Carroll,
Acting Regional Administrator, Region 6.

[FR Doc. 01-20658 Filed 8-15-01; 8:45 am]

BILLING CODE 6560-50-P